DEPARTMENT OF HEALTH AND HUMAN SERVICES

Indian Health Service

Tribal Management Grant Program

Correction

In notice document E8-6429 beginning on page 17355, in the issue of Tuesday, April 1, 2008, make the following corrections:

1. On page 17356, in the first column, in the second paragraph of •Priority III, in the 19th line, “Section 111.3” should read “Section III.3”.

2. On the same page, in the second column, in the last paragraph of •Priority III, in the 4th line, “Priority H” should read “Priority II”.

3. On the same page, in the second column, in the same paragraph, in the 5th line, “Priority if” should read “Priority III”.

4. On page 17358, in the third column, at the 6th dashed item, in the second line, “Section H” should read “Section II”.

5. On page 17360, in the first column, in the first bulleted item, in the second line, “IRS” should read “IHS”.

6. On page 17361, in the third column, in the second line, “IEIS” should read “IHS”.

7. On page 17362, at the third bulleted item, in the second line, “IRS” should read “IHS”.

8. On the same page, in the second column, under the VII. Agency Contact(s) heading, in the 5th line, “announcement, Grant-related ” should read “announcement. Grant-related”.

9. On the same page, in the same column, in the 11th line, “submission, and” should read “submission and”.

10. On the same page, in the same column, in the 6th line from the bottom, “Gamesmanship” should read “Grantsmanship”.

[FR Doc. Z8-6429 Filed 4-22-08; 8:45 am]

BILLING CODE 1505-01-D

SECURITIES AND EXCHANGE COMMISSION

17 CFR Parts 240 and 249

[Release 34-57526A; File No. S7-06-07]

RIN 3235-AJ80

Proposed Rule Changes of Self-Regulatory Organizations

Correction

In rule document E8-8267 appearing on page 20782 in the issue of Thursday, April 17, 2008, make the following correction:

In the third column, under the SUPPLEMENTARY INFORMATION heading, in the 14th line, “May 8, 2008.” should read “[insert date 21 days from publication in the Federal Register].””.

[FR Doc. Z8-8267 Filed 4-22-08; 8:45 am]

BILLING CODE 1505-01-D